DEPARTMENT OF COMMERCE

Foreign-Trade Zones Board

[S-185-2019]

Approval of Subzone Status; Pueblo, Inc.; Guaynabo, Puerto Rico

On September 19, 2019, the Executive Secretary of the Foreign-Trade Zones (FTZ) Board docketed an application submitted by the Department of Economic Development and Commerce, grantee of FTZ 61, requesting subzone status subject to the existing activation limit of FTZ 61, on behalf of Pueblo, Inc., in Guaynabo, Puerto Rico.

The application was processed in accordance with the FTZ Act and Regulations, including notice in the Federal Register inviting public comment (84 FR 50374, September 25, 2019). The FTZ staff examiner reviewed the application and determined that it meets the criteria for approval.

Pursuant to the authority delegated to the FTZ Board Executive Secretary (15 CFR Sec. 400.36(f)), the application to establish Subzone 61X was approved on November 26, 2019, subject to the FTZ Act and the Board's regulations, including Section 400.13, and further subject to FTZ 61's 1,821.07-acre activation limit.

Dated: November 27, 2019.
Andrew McGilvray,
Executive Secretary.

[FR Doc. 2019-26154 Filed 12-2-19; 8:45 am]

BILLING CODE 3510-DS-P